DEPARTMENT OF THE INTERIOR

Fish and Wildlife Service

Receipt of an Application for an Incidental Take Permit for Sand Skinks and Bluetail Mole Skinks Resulting From the Proposed Construction of a Planned Unit Development in Polk County, FL

AGENCY: Fish and Wildlife Service, Interior.

ACTION: Notice.

SUMMARY: Oakmont Grove Venture, L.L.C. (Applicant) requests an incidental take permit (ITP) pursuant to section 10(a)(1)(B) of the Endangered Species Act of 1973, as amended (Act) (16 U.S.C. 1531 et seq.). The requested term of the ITP is nine years. The Applicant anticipates take of the threatened sand skink (Neoseps reynoldsi) and bluetail mole skink (Eumeces egregius lividus) incidental to the development of approximately 18.59 acres of sand skink habitat and the restoration, enhancement, and management of 71.14 acres of sand skink habitat on-site associated with the construction of a planned unit development (project). Bluetail mole skinks have not been observed on the Oakmont project site, but they are known to share habitats occupied by sand skinks. Therefore, incidental take of the bluetail mole skink could occur in the same areas that are occupied by the sand skink. The proposed project would occur in Sections 3, 9, 10, and 15, Township 26 South, Range 27 East, Polk County, Florida.

The Applicant's Habitat Conservation Plan (HCP) describes the mitigation and minimization measures proposed to address the effects of the project on the sand skink and bluetail mole skink. These measures are also outlined in the SUPPLEMENTARY INFORMATION section below. We announce the availability of the ITP application, HCP, and Environmental Assessment (EA). Copies of the application, HCP, and EA may be obtained by making a request to the Southeast Regional Office (see ADDRESSES). Requests must be in writing to be processed. This notice is provided pursuant to section 10 of the Act and National Environmental Policy Act (NEPA) regulations (40 CFR 1506.6).

DATES: Written comments on the ITP application, EA, and HCP should be sent to the Service's Southeast Regional Office (see ADDRESSES) and should be received on or before December 12, 2005.

ADDRESSES: Persons wishing to review the ITP application, EA, and HCP may obtain a copy by writing the Service's Southeast Regional Office, at the address below. Please reference permit application number TE098035-0 in such requests. Documents will also be available for public inspection by appointment during normal business hours either at the Southeast Regional Office, U.S. Fish and Wildlife Service, 1875 Century Boulevard, Suite 200, Atlanta, Georgia 30345 (Attn: Endangered Species Permits), or at the South Florida Ecological Services Office, U.S. Fish and Wildlife Service, 1339 20th Street, Vero Beach, Florida 32960-3559 (Attn: Field Supervisor).

FOR FURTHER INFORMATION CONTACT: Mr. David Dell, Regional HCP Coordinator, Southeast Regional Office (see ADDRESSES above), at 404-679-7313, facsimile: 404-679-7081; or Mr. Spencer Simon, Fish and Wildlife Biologist, South Florida Ecological Services Office (see ADDRESSES above), at 772-562-3909, extension 345.

SUPPLEMENTARY INFORMATION: If you wish to comment, you may submit comments by any one of several methods. Please reference permit application number TE098035-0 in such comments. You may mail comments to the Service's Southeast Regional Office (see ADDRESSES). You may also comment via the Internet to david_dell@fws.gov. Please submit comments over the internet as an ASCII file, avoiding the use of special characters and any form of encryption. Please also include your name and return address in your e-mail message. If you do not receive a confirmation from the Service that we have received your e-mail message, contact us directly at either telephone number listed above (see FOR FURTHER INFORMATION CONTACT). Finally, you may hand-deliver comments to either Service office listed above (see ADDRESSES). Our practice is to make comments, including names and home addresses of respondents, available for public review during regular business hours. Individual respondents may request that we withhold their home address from the administrative record. We will honor such requests to the extent allowable by law. There may also be other circumstances in which we would withhold from the administrative record a respondent's identity, as allowable by law. If you wish us to withhold your name and address, you must state this prominently at the beginning of your comments. We will not, however, consider anonymous comments. We will make all submissions from organizations or businesses, and from individuals identifying themselves as representatives or officials of organizations or businesses, available for public inspection in their entirety.

The sand skink is endemic to the sandy ridges of central Florida, occurring in Highlands, Lake, Marion, Orange, Osceola, Polk, and Putnam counties. Principal populations occur on the Lake Wales and Winter Haven Ridges in Highlands, Lake, and Polk counties. The sand skink is widespread in xeric uplands with sandy substrates, but appears to be most abundant in ecotonal areas, typically between high pine and scrub. These areas are exposed to frequent lightning strikes which resulted in the evolution of plant and animal species that became dependent on frequent fires to persist. Due to the effects of urbanization and agricultural development, historic skink habitat has been reduced in size and has become fragmented. As a consequence of habitat fragmentation, much of the remaining habitat for skinks is poor quality due to the lack of periodic fires; fire exclusion has been practiced since settlement of the area.

Except for a few locations where intensive research has been conducted, there is very little information about the presence or abundance of sand skinks, as well as the status and trends of this species in South Florida. Current research indicates that densities of sand skinks per acre range from 371 to 419 in habitats consisting of sand live oak with open groundcover, from 145 to 194 in habitats consisting of improved pasture with a mosaic of open sandy patches, and 81 in habitats consisting of sand live oak with moderate ground cover.

Sand skink occupation of all suitable habitats within the project site was determined by observation of sign (tracks and disturbance of the sand surface) during site evaluations conducted in April 2003. Unsuitable areas were also surveyed for sign, and were considered habitat for minimization and mitigation purposes if sign was observed. Based upon estimates of sand skink densities in various habitats as described in scientific literature, the theoretical sand skink population on the Oakmont project site is between 17,615 and 20,507 skinks. The theoretical population loss due to direct impacts of the Oakmont project would be between 2,756 and 3,141 skinks.

The bluetail mole skink occupies xeric upland habitats of the Central Ridge in peninsular Florida. It requires open, sandy patches interspersed with scrub vegetation. Much of the bluetail mole skink's habitat has been destroyed or degraded due to residential, commercial, and agricultural development. Very little information is known about the dispersal, population densities, and life history characteristics of bluetail mole skinks.

Bluetail mole skinks have not been observed on the Oakmont project site, but they are known to share habitats occupied by sand skinks. Therefore, it is considered likely that the proposed development, restoration, and management activities could result in incidental take of the bluetail mole skink. Since the proposed preservation, restoration, and management plan for the scrub communities on the Oakmont project site supports the recovery goals established by the Service for the bluetail mole skink, the project would be anticipated to maintain or improve available suitable habitat for this species on-site.

The project site is bounded on the north by County Road 54 and on the south by Bowen Road, and is west of State Road 547 in Polk County. The scrub habitat present on the Oakmont project site consists of small, remnants of scrub habitat that have been isolated and fragmented by adjacent development and agricultural uses of the site, larger tracts of relatively undisturbed and unmanaged habitat (some of which have transitioned into closed canopied systems), as well as areas that have been incorporated into improved pasture areas for cattle grazing.

Land clearing in preparation for a planned unit development would destroy scrub habitat and would likely result in take of sand skinks and bluetail mole skinks, incidental to the carrying out of these otherwise lawful activities. Habitat alteration associated with the proposed planned unit development would reduce the availability of feeding, breeding, and sheltering habitat for these species.

The Applicant's HCP describe the following minimization and mitigation strategy that would be employed by the Applicant to offset the impacts of the project to the sand skink and bluetail mole skink:

(1) The Applicant would enhance and manage 32.50 acres of occupied oak scrub sand skink habitat.

(2) The Applicant would restore and manage 38.64 acres of occupied, low quality sand skink habitat.

(3) The Applicant would monitor the project site for five years to evaluate both the vegetative composition and structure, and the presence of sand skinks within the preserved and restored scrub habitats.

The EA considers the environmental consequences of the no action alternative (not to issue the ITP) and two action alternatives that would require issuance of an ITP. The no action alternative would ultimately result in loss of sand skink and bluetail mole skink habitat within the project vicinity due to habitat degradation. The no action alternative could also expose the Applicant to violations under section 9 of the Act.

An action alternative considered in the EA would be the issuance of the ITP for the development as approved by local government authorities, with off-site mitigation for project impacts to occupied sand skink habitat. Under this alternative, the acquisition of up to 201.0 acres of suitable skink habitat would be required. This alternative would also result in the loss of 89.7 acres of occupied sand skink habitat at the development site.

The second action alternative (proposed project) would be issuance of the ITP according to the HCP as submitted and described above. This alternative, which includes a modification of the Applicant's currently approved development plan, would affect about 18.59 acres of occupied sand skink habitat in Polk County, Florida. The mitigation measures for the proposed action alternative include enhancement and management of 32.50 acres of suitable habitat, and restoration and management of 38.64 acres of low quality habitat in Polk County, Florida.

The Service has made a preliminary determination that the issuance of the ITP is not a major Federal action significantly affecting the quality of the human environment within the meaning of section 102(2)(C) of NEPA. This preliminary information may be revised due to public comment received in response to this notice and is based on information contained in the EA and HCP.

The Service will evaluate the HCP and comments submitted thereon to determine whether the application meets the requirements of section 10(a)(1)(B) of the Act. If it is determined that those requirements are met, the ITP will be issued for incidental take of the sand skink and bluetail mole skink. The Service will also evaluate whether issuance of the section 10(a)(1)(B) ITP complies with section 7 of the Act by conducting an intra-Service section 7 consultation. The results of the biological opinion, in combination with the above findings, will be used in the final analysis to determine whether or not to issue the ITP.

Dated: September 27, 2005.
Cynthia K. Dohner,
Acting Regional Director.

[FR Doc. 05-20498 Filed 10-12-05; 8:45 am]

BILLING CODE 4310-55-P